DEPARTMENT OF DEFENSE

Department of the Navy

Notice of Intent To Grant an Exclusive Patent License; Vector Test Systems, Inc.

AGENCY: Department of the Navy, DoD.

ACTION: Notice.

SUMMARY: The Department of the Navy hereby gives notice of its intent to grant to Vector Test Systems, Inc., a revocable, nonassignable, exclusive license to practice worldwide the Government owned inventions described in U.S. Patent Number 6, 399, 062 entitled “Murine Monoclonal Antibody Protective Against Plasmodium Vivax Malaria” issued 4 June 2002. The present invention relates to the field of development of immunochromatographic of dipstick assays for detection of Pv210 Antigen in Vectoring Mosquitoes.

DATES: Anyone wishing to object to the grant of this license has fifteen (15) days from the date of this notice to file written objections along with supporting evidence, if any. Written objections are to be filed with the Office of Technology Transfer, Naval Medical Research Center, 503 Robert Grant Ave., Silver Spring, MD 20910-7500 telephone (301) 319-7428.

ADDRESSES: Written objections are to be filed with the Office of Technology Transfer, Naval Medical Research Center, 503 Robert Grant Ave., Silver Spring, MD 20910-7500.

FOR FURTHER INFORMATION CONTACT: Dr. Charles Schlagel, Director, Office of Technology Transfer, Naval Medical Research Center, 503 Robert Grant Ave, Silver Spring, MD 20910-7500, telephone (301) 319-7428 or E-Mail at: schlagelc@nmrc.navy.mil.

Dated: February 8, 2005.
I.C. Le Moyne, Jr.,
Lieutenant, Judge Advocate General's Corps, U.S. Navy, Alternate Federal Register Liaison Officer.

[FR Doc. 05-3043 Filed 2-16-05; 8:45 am]

BILLING CODE 3810-FF-P